DEPARTMENT OF ENERGY

Federal Energy Regulatory Commission

Notice of Application for Amendment of License, and Soliciting Comments, Motions To Intervene, and Protests

October 10, 2000.

Take notice that the following hydroelectric application has been filed with the Commission and is available for public inspection:

a. Application Type: Amendment of License.

b. Project No.: 2169-017.

c. Date Filed: July 12, 2000.

d. Applicant: Alcoa Power Generating Inc., (APGI), Tapoco Division.

e. Name of Project: Tapoco Hydroelectric Project.

f. Location: The Project is located on the Cheoah and Little Tennessee Rivers, in Blount and Monroe Counties, Tennessee, and Graham and Swain Counties, North Carolina. The project utilizes approximately 370 acres Nantahala National Forest lands. The project consists of four developments: Chilhowee, Cheoah, Santeetlah, and Calderwood.

g. File Pursuant to: Federal Power Act, 16 U.S.C. 791(a)-825(r).

h. Applicant's Contact: B. Julian Polk, Alcoa Power Generating Inc., Tapoco Division, 300 North Hall Road, Alcoa, TN 37701-2516, Tel: (865) 977-3321.

i. FERC Contact: Any questions on this notice should be addressed to Ms. Doan Pham at (202) 219-2851 or at e-mail address doan.pham@ferc.fed.us.

j. Deadline for filing comments, motions to intervene, or protests: November 13, 2000.

All documents (original and eight copies) should be filed with: David P. Boergers, Secretary, Federal Energy Regulatory Commission, 888 First Street, NE., Washington, DC 20426.

Please include the Project Number (2169-017) on any comments, protests, or motions filed.

k. Description of Amendment: APGI proposes to remove certain transmission lines, identified as the Calderwood Line No. 1 (28 miles long), No. 2 (32 miles long) and No. 3 (22 miles long), and related electrical and non-electrical equipment necessary for the operation of these lines. APGI asserts that due to increased in connectivity between the Tapoco project developments and an interconnection facilities of the Tennessee Valley Authority and Duke Energy Corporation, these transmission facilities function as part of the integrated regional transmission system.

l. Locations of the Application: A copy of the application is available for inspection and reproduction at the Commission's Public Reference Room, located at 888 First Street NE, Room 2A, Washington, DC, 20426, or by calling (202) 208-1371. This filing may be viewed on http://www.ferc.fed.us/online/rims.htm (call (202) 208-2222 for assistance). A copy is also available for inspection and reproduction at the address in item h above.

m. Individuals desiring to be included on the Commission's mailing list should so indicate by writing to the Secretary of the Commission.

Comments, Protests, or Motions to Intervene

Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Filing and Service of Responsive Documents

Any filings must bear in all capital letters the title “COMMENTS”, “RECOMMENDATIONS FOR TERMS AND CONDITIONS”, “PROTEST”, OR “MOTION TO INTERVENE”, as applicable, and the Project Number of the particular application to which the filing refers. Any of the above-named documents must be filed by providing the original and the number of copies provided by the Commission's regulations to: The Secretary, Federal Energy Regulatory Commission, 888 First Street, NE., Washington, DC 20426. A copy of any motion to intervene must also be served upon each representative of the Applicant specified in the particular application.

Agency Comments

Federal, state, and local agencies are invited to file comments on the described application. A copy of the application may be obtained by agencies directly from the Applicant. If an agency does not file comments within the time specified for filing comments, it will be presumed to have no comments. One copy of an agency's comments must also be sent to the Applicant's representatives.

David P. Boergers,
Secretary.

[FR Doc. 00-26445 Filed 10-13-00; 8:45 am]

BILLING CODE 6717-01-M